GENERAL SERVICES ADMINISTRATION

[OMB Control No. 3090-0321; Docket No. 2025-0001; Sequence No. 14]

Submission for OMB Review; Improving Customer Experience—Implementation of Section 280 of OMB Circular A-11

AGENCY: General Services Administration (GSA).

ACTION: Notice; request for comment.

SUMMARY: GSA has, under OMB review, the following proposed Information Collection Request “Improving Customer Experience (OMB Circular A-11, Section 280 Implementation)” for approval under the Paperwork Reduction Act (PRA).

DATES: Submit comments on or before September 29, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: Requests for additional information should be directed to Nicole Bynum, Regulatory Program Specialist, at 202-501-4755, or email to GSARegSec@gsa.gov.

SUPPLEMENTARY INFORMATION:

A. Purpose: Under the Government Service Delivery Improvement (GSDI) Act ¹ and the 21st Century Integrated Digital Experience Act,² along with OMB guidance, agencies are obligated to continually improve the services they provide the public and to collect qualitative and quantitative data from the public to do so.

¹ 5 U.S.C. 321-24.

² 44 U.S.C. 3501 note.

The General Services Administration (hereafter “the Agency”) has developed a survey collection tool (https://touchpoints.digital.gov/) that Federal agencies may use to collect this customer feedback. The purpose of this request is to facilitate federal agencies' ability to collect feedback from the public using this GSA Touchpoints survey tool, or any subsequent GSA survey tool that uses a different name. Collecting feedback from the public will allow agencies to continue to improve federal services, thereby facilitating compliance with statutory requirements and general principles of good governance.

An agency using the Touchpoints survey tool will only submit collections if they meet the following criteria.

• The collections are voluntary;

• The collections are low-burden for respondents (based on considerations of total burden hours or burden-hours per respondent) and are low-cost for both the respondents and the Federal Government;

• The collections are non-controversial, meaning they do not raise issues that warrant public comment;

• Any collection is targeted to the solicitation of opinions from respondents who have experience with the program or may have experience with the program in the near future;

• Personally identifiable information (PII) is collected only to the extent necessary and the agency will comply with applicable legal and policy requirements to ensure its protection;

• Information gathered is intended to be used for general service improvement and program management purposes;

• The agency will follow the procedures specified in any relevant OMB guidance for the required reporting to OMB of data from surveys;

• Outside of the reporting mentioned in the bullet immediately above, if the agency intends to release journey maps, user personas, reports, or other data-related summaries stemming from this collection, the agency must include appropriate caveats around those summaries, noting that conclusions should not be generalized beyond the sample, considering the sample size and response rates. The agency must submit the data summary itself (e.g., the report) and the caveat language mentioned above to OMB before it releases them outside the agency. OMB will engage in a passback process with the agency.

Affected Public: Individuals and Households, Businesses and Organizations, State, Local or Tribal Government.

B. Annual Reporting Burden: Below is an estimate of the aggregate burden hours for this collection.

Average Expected Annual Number of Activities: Approximately 50 customer feedback surveys.

Average Number of Respondents per Activity: Range varies greatly depending on Federal Service.

Annual Responses: Approximately 40,000,000.

Average Minutes per Response: 3 minutes.

Burden Hours: 2,000,000.

C. Public Comments: A 30-day notice was published in the Federal Register at 90 FR on. No comments were received.

Obtaining Copies of Proposals: Requesters may obtain a copy of the information collection documents from the GSA Regulatory Secretariat Division, by calling 202-501-4755 or emailing GSARegSec@gsa.gov. Please cite OMB Control No. 3090-0321 Improving Customer Experience—Implementation of Section 280 of OMB Circular A-11.

Patrick Dale,
Management & Program Analyst, Office of Acquisition Policy, General Services Administration.

[FR Doc. 2025-16555 Filed 8-27-25; 8:45 am]

BILLING CODE 6820-34-P